ENVIRONMENTAL PROTECTION AGENCY

40 CFR Part 52

[EPA-R06-OAR-2018-0350; FRL-9982-47—Region 6]

Approval and Promulgation of Implementation Plans; Oklahoma; General SIP Updates

AGENCY: Environmental Protection Agency (EPA).

ACTION: Final rule.

SUMMARY: Pursuant to the Federal Clean Air Act (CAA or the Act), the Environmental Protection Agency (EPA) is approving revisions to the State Implementation Plan (SIP) for Oklahoma submitted by the State of Oklahoma designee with a letter dated February 14, 2017. The submittal includes updates to the Oklahoma SIP, as contained in annual SIP updates for 2013, 2014, 2015, and 2016, and incorporates the latest changes to EPA regulations. This action addresses the revisions submitted to the Oklahoma SIP pertaining to incorporation by reference of federal requirements and emission inventory reporting requirements.

DATES: This rule is effective on October 1, 2018.

ADDRESSES: The EPA has established a docket for this action under Docket ID No.EPA-R06-OAR-2018-0350. All documents in the docket are listed on the http://www.regulations.gov website. Although listed in the index, some information is not publicly available, e.g., Confidential Business Information or other information whose disclosure is restricted by statute. Certain other material, such as copyrighted material, is not placed on the internet and will be publicly available only in hard copy form. Publicly available docket materials are available either electronically through http://www.regulations.gov or in hard copy at the EPA Region 6, 1445 Ross Avenue, Suite 700, Dallas, Texas 75202-2733.

FOR FURTHER INFORMATION CONTACT: Adina Wiley, 214-665-2115, wiley.adina@epa.gov.

SUPPLEMENTARY INFORMATION: Throughout this document “we,” “us,” and “our” means the EPA.

I. Background

The background for this action is discussed in detail in our July 6, 2018, proposal at 83 FR 31511. In that document, we proposed to approve revisions to the Oklahoma SIP submitted by letter dated February 14, 2017, from the Oklahoma Secretary of Energy and Environment that pertain to incorporation by reference of federal requirements and emission inventory reporting requirements. Specifically, we proposed to approve the revisions to Subchapter 2, Subchapter 5, and Appendix Q under Title 252, Chapter 100 of the Oklahoma Administrative Code (OAC).

We received two comments on our July 6, 2018, proposal. One commenter provided personal observations regarding former EPA Administrator Scott Pruitt. One commenter provided comments about reducing greenhouse gas emissions through forest management practices. Neither of these comments is relevant to our proposed rulemaking to approve the updates to the incorporation by reference of federal requirements or updates to the Oklahoma emission inventory reporting requirements. Since these comments are not relevant to the specific action EPA proposed, the EPA will not be responding to these comments or making any changes to our proposed rulemaking because of these comments.

II. Final Action

We are approving revisions to the Oklahoma SIP that revise the incorporation by reference dates for federal requirements and update the emission inventory reporting requirements. We have determined that these revisions, submitted by Oklahoma on February 14, 2017, were developed in accordance with the CAA and EPA's regulations. Therefore, under section 110 of the Act, the EPA approves the following revisions to the Oklahoma SIP:

• Revisions to OAC 252:100-2-3 and Appendix Q adopted on April 25, 2013; effective July 1, 2013;

• Revisions to OAC 252:100-2-3 and Appendix Q adopted on June 19, 2014; effective September 12, 2014;

• Revisions to OAC 252:100-2-3 and Appendix Q adopted on June 8, 2015; effective September 15, 2015;

• Revisions to OAC 252:100-2-3 and Appendix Q adopted on June 9, 2016; effective September 15, 2016;

• Revisions to OAC 252:100-5-2 adopted on June 19, 2014; effective September 12, 2014;

• Revisions to OAC 252:100-5-2.1 adopted on June 19, 2014; effective September 12, 2014;

• Revisions to OAC 252:100-5-2.1 adopted June 9, 2016; effective September 15, 2016; and

• Revisions to OAC 252:100-5-3 adopted on June 19, 2014; effective September 12, 2014.

IV. Incorporation by Reference

In this rule, the EPA is finalizing regulatory text that includes incorporation by reference. In accordance with requirements of 1 CFR 51.5, the EPA is finalizing the incorporation by reference of the revisions to the Oklahoma regulations as described in the Final Action section above. The EPA has made, and will continue to make, these materials generally available through www.regulations.gov and at the EPA Region 6 Office (please contact Adina Wiley for more information). Therefore, these materials have been approved by the EPA for inclusion in the Oklahoma SIP, have been incorporated by reference by the EPA into that plan, are fully federally enforceable under sections 110 and 113 of the CAA as of the effective date of this final rulemaking, and will be incorporated by reference in the next update to the SIP compilation.

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 29, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Nitrogen dioxide, Ozone, Particulate matter, Reporting and recordkeeping requirements, Sulfur oxides, Volatile organic compounds.

Dated: August 23, 2018.
Anne Idsal,
Regional Administrator, Region 6.

40 CFR part 52 is amended as follows:

PART 52—APPROVAL AND PROMULGATION OF IMPLEMENTATION PLANS

1. The authority citation for part 52 continues to read as follows:

Authority: 42 U.S.C. 7401 et seq.

Subpart LL—Oklahoma

2. In § 52.1920(c), the table titled “EPA Approved Oklahoma Regulations” is amended by revising the entries for Sections 252:100-2-3; 252:100-5-2; 252:100-5-2.1; 252:100-5-3; and 252:100, Appendix Q to read as follows:

§ 52.1920 Identification of plan.

* * * * *

(c) * * *

EPA Approved Oklahoma Regulations
State citation | Title/subject | State effective date | EPA approval date | Explanation
| * * * * * * *
252:100-2-3 | Incorporation by reference | 9/15/2016 | 8/30/2018, [Insert Federal Register citation] |
| * * * * * * *
252:100-5-2 | Registration of potential sources of air contaminants | 9/12/2014 | 8/30/2018, [Insert Federal Register citation] |
252:100-5-2.1 | Emission inventory | 9/15/2016 | 8/30/2018, [Insert Federal Register citation] |
| * * * * * * *
252:100-5-3 | Confidentiality of proprietary information | 9/12/2014 | 8/30/2018, [Insert Federal Register citation] |
| * * * * * * *
252:100, Appendix Q | Incorporation by reference | 9/15/2016 | 8/30/2018, [Insert Federal Register citation] |
| * * * * * * *

* * * * *

[FR Doc. 2018-18657 Filed 8-29-18; 8:45 am]

BILLING CODE 6560-50-P